DEPARTMENT OF COMMERCE

International Trade Administration

[A-583-830]

Stainless Steel Plate in Coils from Taiwan; Preliminary Rescission of Antidumping Duty Administrative Review

AGENCY: Import Administration, International Trade Administration, Department of Commerce.

EFFECTIVE DATE: June 7, 2005.

FOR FURTHER INFORMATION CONTACT: Elizabeth Eastwood or Jill Pollack, AD/CVD Operations, Office 2, Import Administration, International Trade Administration, U.S. Department of Commerce, 14th Street and Constitution Avenue, NW, Washington, DC 20230, telephone: (202) 482-3874 or (202) 482-4593, respectively.

SUPPLEMENTARY INFORMATION:

Background

On May 3, 2004, the Department of Commerce (the Department) published in the Federal Register (69 FR 24117) a notice of opportunity to request an administrative review of the antidumping duty order on stainless steel plate in coils from Taiwan for the period May 1, 2003, through April 30, 2004. In accordance with 19 CFR 351.213(b)(1), on May 28, 2004, the petitioners (i.e., Allegheny Ludlum Corp., United Auto Workers Local 3303, Zanesville Armco Independent Organization, the United Steelworkers of America, and AFL-CIO/CLC) requested a review of this order with respect to the following producers/exporters: Chain Chon Industrial Co., Ltd. (Chain Chon), Chang Mien Industries Co., Ltd., Chien Shing Stainless Steel Co., Ltd., China Steel Corporation, East Tack Enterprise Co., Goang Jau Shing Enterprise Co., Ltd., PFP Taiwan Co., Ltd., Shing Shong Ta Metal Ind. Co., Ltd., Sinkang Industries, Ltd., Ta Chen Stainless Pipe Ltd. (Ta Chen), Tang Eng Iron Works Co., Ltd., Yieh Loong Enterprise Co., Yieh Mau Corp., Yieh Trading Co., and Yieh United Steel Corp (YUSCO).

The Department initiated an administrative review on stainless steel plate in coils from Taiwan in June 2004. See Initiation of Antidumping and Countervailing Duty Administrative Reviews and Request for Revocation in Part, 69 FR 39409 (June 30, 2004). We issued questionnaires to the producers/exporters named by the petitioners in October 2004.

In October and November 2004, the following companies informed the Department that they had no shipments or entries of subject merchandise during the period of review (POR): Chain Chon, Ta Chen and YUSCO. We reviewed data from U.S. Customs and Border Protection (CBP) and attempted to confirm that there were no entries of subject merchandise from any of these companies. We also confirmed with CBP data that none of the other companies named by the petitioners in their request for review had entries of subject merchandise during the POR. However, initial CBP data showed that Ta Chen had potential entries of subject merchandise during the POR. Therefore, on November 1, 2004, we requested entry documentation from CBP for Ta Chen's entries. Our examination of the entry documentation appeared to confirm Ta Chen's claim and we informed the petitioners of our intent to rescind this administrative review with respect to Ta Chen in December 2004.

On December 21, 2004, the petitioners requested that the Department extend the deadline for the preliminary results by 120 days in accordance with 19 CFR 351.213(h)(2). On January 28, 2005, we extended the deadline for the preliminary results of this review until no later than May 31, 2005. See Stainless Steel Plate in Coils From Taiwan; Notice of Extension of Time Limits for Preliminary Results in Antidumping Duty Administrative Review, 70 FR 5610 (Feb. 3, 2005).

Further, on January 21, 2005,¹ the petitioners claimed that the information received from CBP and placed on the record of this proceeding showed that Ta Chen did have entries of subject merchandise during the POR, contrary to Ta Chen's assertion that it had no such entries. The petitioners submitted additional comments on this issue on February 11, 2005, and March 11, 2005. Ta Chen responded to the petitioners' comments on January 31, 2005, and February 22, 2005.

¹ We note that while the petitioners originally submitted comments on this date, the Department rejected this filing because it was improperly bracketed. The petitioners submitted a properly bracketed version of their comments on February 2, 2005.

In April 2005, we received additional documentation on Ta Chen's entries from CBP. After reviewing the documents and considering the comments of the parties, we preliminarily determine that Ta Chen did not have entries of subject merchandise during the POR. See the May 31, 2005, memorandum from Elizabeth Eastwood to Louis Apple entitled, “Analysis of Entries by Ta Chen Stainless Steel Pipe Co. Ltd. in the 2003-2004 Antidumping Duty Administrative Review on Stainless Steel Plate in Coil from Taiwan” for further discussion.

Scope of the Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.), provided that it maintains the specified dimensions of plate following such processing. Excluded from the scope of this order are the following: (1) plate not in coils, (2) plate that is not annealed or otherwise heat treated and pickled or otherwise descaled, (3) sheet and strip, and (4) flat bars.

The merchandise subject to this order is currently classifiable in the Harmonized Tariff Schedule of the United States (HTS) at subheadings: 7219110030, 7219110060, 7219120006, 7219120021, 7219120026, 7219120051, 7219120056, 7219120066, 7219120071, 7219120081, 7219310010, 7219900010, 7219900020, 7219900025, 7219900060, 7219900080, 7220110000, 7220201010, 7220201015, 7220201060, 7220201080, 7220206005, 7220206010, 7220206015, 7220206060, 7220206080, 7220900010, 7220900015, 7220900060, and 7220900080. Although the HTS subheadings are provided for convenience and customs purposes, the written description of the merchandise subject to this order is dispositive.

Rescission of Review

Because none of the companies for which we initiated this administrative review had shipments of subject merchandise during the POR, in accordance with 19 CFR 351.213(d)(3) and consistent with our practice, we are preliminarily rescinding this review of the antidumping duty order on stainless steel plate in coils from Taiwan for the period of May 1, 2003, through April 30, 2004.

Interested parties may submit comments for consideration in the Department's final results not later than 30 days after publication of this notice. Responses to those comments may be submitted not later than 10 days following submission of the comments. All written comments must be submitted in accordance with 19 CFR 351.303, and must be served on all interested parties on the Department's service list in accordance with 19 CFR 351.303(f). The Department will issue the final results of this administrative review, which will include the results of its analysis of issues raised in any such comments, within 120 days of publication of the preliminary results, and will publish these results in the Federal Register. This notice is published in accordance with section 751 of the Tariff Act of 1930, as amended, and 19 CFR 351.213(d)(4).

Dated: May 31, 2005.
Susan H. Kuhbach,
Acting Assistant Secretary for Import Administration.

[FR Doc. E5-2886 Filed 6-6-05; 8:45 am]

BILLING CODE 3510-DS-S